FEDERAL MARITIME COMMISSION

Notice of Change to Meeting

Agency Holding the Meeting:

Federal Maritime Commission.

Federal Register Citation of Previous Announcement: 73 FR 67869.

Previously Announced Time and Date of the Meeting: 10 a.m. on November 20, 2008.

Change:

1. The addition of Item 2 to the Open Session of the Meeting: Item 2—FY 2009 Budget Status Report.

For More Information Contact:

Karen V. Gregory, Secretary, (202) 523-5725.

Karen V. Gregory,
Secretary.

[FR Doc. E8-27598 Filed 11-17-08; 4:15 pm]

BILLING CODE 6730-01-P